DEPARTMENT OF TRANSPORTATION

Pipeline and Hazardous Materials Safety Administration

Office of Hazardous Materials Safety; Notice of Applications for Modification of Special Permit

AGENCY: Pipeline and Hazardous Materials Safety Administration, DOT.

ACTION: List of applications for modification of special permit.

SUMMARY: In accordance with the procedures governing the application for, and the processing of, special permits from the Department of Transportation's Hazardous Material Regulations (49 CFR part 107, subpart B), notice is hereby given that the Office of Hazardous Materials Safety has received the application described herein. This notice is abbreviated to expedite docketing and public notice. Because the sections affected, modes of transportation, and the nature of application have been shown in earlier Federal Register publications, they are not repeated here. Request of modifications of special permits (e.g. to provide for additional hazardous materials, packaging design changes, additional mode of transportation, etc.) are described in footnotes to the application number. Application numbers with the suffix “M” denote a modification request. These applications have been separated from the new applications for special permits to facilitate processing.

DATES: Comments must be received on or before November 2, 2006.

ADDRESS COMMENTS TO: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, Nassif Building, 400 7th Street, SW., Washington, DC or at http://dms.dot.gov.

This notice of receipt of applications for modification of special permits is published in accordance with part 107 of the Federal hazardous materials transportation law (49 U.S.C. 5117(b); 49 CFR 1.53(b)).

Issued in Washington, DC, on October 12, 2006.
Delmer E. Billings,
Director, Office of Hazardous Materials, Special Permits & Approvals.

Modification Special Permits
Application No. | Docket No. | Applicant | Regulation(s) affected | Nature of special permit thereof
11650-M |  | Autoliv ASP, Inc. Ogden, UT | 49 CFR 173.301; 173.302; 178.65-9 | To modify the special permit to allow a failure to occur at a gage pressure less than 2.0 times the test pressure as provided by 49 CFR 178.65(f)(2)(i) or the pressure required to demonstrate a 1.5 times Safety Factor per the USCAR specifications.
12030-M | RSPA-1998-3389 | East Penn Manufacturing Company, Inc., Lyon Station, PA | 49 CFR 173.159(h) | To modify the special permit to authorize cargo vessel and cargo air as approved modes of transportation.
12046-M | RSPA-1998-3614 | University of Colorado at Denver Health Sciences Center Aurora, CO | 49 CFR 171 to 178 | To modify the special permit to authorize additional academic/health institutions which are affiliated with UCDHSC and located within a forty mile radius of the Aurora Campus.
12084-M | RSPA-1998-3941 | Honeywell International, Inc., Morristown, NJ | 49 CFR 180.209 | To modify the special permit to authorize the transportation in commerce of additional Division 2.2 gases in DOT 4B, 4BA and 4BW cylinders.
12207-M | RSPA-1999-5047 | EMD Chemicals, Inc., Cincinnati, OH | 49 CFR 171.1(a)(1); 172.200(a); 172.302(c) | To modify the special permit to increase the size of the containers from 250 gallons to 331 gallons and to increase the quantity allowed on a pallet from 24 to 35.
12283-M | RSPA-1999-5767 | Interstate Battery of Alaska, Anchorage, AK | 49 CFR 173.159(c)(1); 173.159(c) | To modify the special permit to authorize medium density polyethylene boxes as authorized packaging.
12412-M | RSPA-2000-6827 | ChemStation International, Lima, OH | 49 CFR 177.834(h); 172.203(a); 172.302(c) | To modify the special permit to allow the attendance requirements in 49 CFR 177.837(d) for Class 8 materials described as “Compounds, cleaning liquid.”
14250-M | PHMSA-2006-25473 | Daniels Sharpsmart, Inc., Dandenong, Australia | 49 CFR 172.301(a)(1); 172.301(c) | To reissue the special permit originally issued on an emergency basis for the transportation in commerce of a Division 6.2 material in packagings marked within an unauthorized proper shipping name.
14333-M | PHMSA-2006-24382 | The Columbiana Boiler Co., Columbiana, OH | 49 CFR 179.300-13(b) | To modify the special permit to authorize the transportation in commerce of additional Division 6.1, Class 8 and other hazardous materials authorized in DOT Specification 4BW cylinder in DOT Specification 110A500W tank care tanks.
14355-M | PHMSA-2006-25012 | Honeywell International Inc., Morristown, NJ | 49 CFR 173.31(b)(3); 173.31(b)(4) | To reissue the special permit originally issued on an emergency basis for the transportation in commerce of nine DOT Specification 112 tank cars without head and thermal protection for use in transporting certain Division 2.2 material by extending the date for retrofitting beyond July 1, 2006.

[FR Doc. 06-8748 Filed 10-17-06; 8:45 am]

BILLING CODE 4909-60-M